DEPARTMENT OF THE INTERIOR

Fish and Wildlife Service

[FWS-HQ-NWRS-2019-N052; FXRS126109HD000-189-FF09R23000; OMB Control Number 1018-New]

Agency Information Collection Activities; Programmatic Clearance for U.S. Fish and Wildlife Service Social Science Research

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before June 16, 2020.

ADDRESSES: Send your comments on the information collection request by mail to the Service Information Collection Clearance Officer, U.S. Fish and Wildlife Service, MS: PRB (JAO/3W), 5275 Leesburg Pike, Falls Church, VA 22041-3803 (mail); or by email to Info_Coll@fws.gov. Please reference OMB Control Number 1018-New in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the PRA and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Improving customer experience with Federal services is part of the President's Management Agenda (OMB Circular A-11, Section 280, “Managing Customer Experience and Improving Service Delivery”). The collection of information is necessary to enable the Service to garner customer and stakeholder feedback in an efficient, timely manner, in accordance with our commitment to improving service delivery. Additionally, this new programmatic clearance is needed in order to be more responsive to Secretarial Orders 3355 (National Environmental Policy Act), 3356 (hunting and fishing opportunities), 3362 (big game habitat), and 3366 (outdoor recreation). This proposed new collection of information will also allow the Service to improve customer service delivery and response. This is important because OMB Circular A-11 designates the Service as a High-Impact Service Provider.

The programmatic clearance applies to social science surveys, interviews, and focus groups designed to provide information to Service managers and practitioners to improve quality and utility of agency programs, services, and planning efforts. To ensure continuous improvement, Service activities and projects require ongoing systematic assessment of their design, implementation, and outcomes. Data from collections undertaken through the proposed programmatic clearance would provide information for planning, monitoring, and evaluating National Wildlife Refuge System efforts as well as efforts of other Service programs. The scope of this programmatic clearance includes individual surveys, focus groups, and interviews of refuge visitors, potential visitors, and residents of communities near Service-managed units, and stakeholders and partners, including tribal interests.

To qualify for the generic programmatic review process, survey questions must show a clear tie to Service management needs. The programmatic review may only be used for noncontroversial information collections that are unlikely to attract or include topics of significant public interest. We must obtain OMB approval of all surveys developed using the pre-approved suite of questions before the survey can be initiated. This suite of questions will be used to develop customer experience and satisfaction surveys to meet requirements of OMB Circular A-11 as well as commitments to respond to the above-named Secretarial Orders.

Title of Collection: Programmatic Clearance for U.S. Fish and Wildlife Service Social Science Research.

OMB Control Number: 1018-New.

Form Number: None.

Type of Review: New.

Respondents/Affected Public: Persons visiting units managed by the Service; potential visitors, including “virtual visitors” who access content from a Service website; local community members; educators taking part in programs both on and off Service lands; government officials representing the local area; landowners; partners; stakeholders; and tribal interests.

Respondent's Obligation: Voluntary.

Frequency of Collection: On occasion.

Total Estimated Annual Nonhour Burden Cost: None.

Mode | Annual estimates: Number of respondents | Annual estimates: Completion time per response (avg. minutes) | Annual estimates: Burden hours **
On-site, mail, internet surveys * | 22,366 | 20 | 7,455
Telephone surveys | 916 | 25 | 382
All non-response surveys | 862 | 5 | 72
Focus groups/In-person interviews | 65 | 60 | 65
Annual Total | 24,209 | — | 7,974
3 Year Total | 72,627 |  | 23,922
* Includes 2-minute contact time for some surveys, interviews, focus groups, and approximately 2,500 electronic surveys.
** All figures are rounded.

An agency may not conduct or sponsor and a person is not required to respond to a collection of information unless it displays a currently valid OMB control number.

The authority for this action is the Paperwork Reduction Act of 1995 (44 U.S.C. 3501 et seq.).

Dated: April 14, 2020.
Madonna Baucum,
Information Collection Clearance Officer,U.S. Fish and Wildlife Service.

[FR Doc. 2020-08119 Filed 4-16-20; 8:45 am]

BILLING CODE 4333-15-P